DEPARTMENT OF THE INTERIOR

National Park Service

[NPS-WASO-NAGPRA-NPS0037156; PPWOCRADN0-PCU00RP14.R50000]

Notice of Inventory Completion: U.S. Department of the Interior, National Park Service, Hopewell Culture National Historical Park, Chillicothe, OH

AGENCY: National Park Service, Interior.

ACTION: Notice.

SUMMARY: In accordance with the Native American Graves Protection and Repatriation Act (NAGPRA), the U.S. Department of the Interior, National Park Service, Hopewell Culture National Historical Park has completed an inventory of human remains and associated funerary objects and has determined that there is a cultural affiliation between the human remains and associated funerary objects and Indian Tribes or Native Hawaiian organizations in this notice. The human remains and associated funerary objects were removed from Ross County, OH.

DATES: Repatriation of the human remains and associated funerary objects in this notice may occur on or after February 2, 2024.

ADDRESSES: Chris Alford, Superintendent, Hopewell Culture National Historical Park, 16062 State Route 104, Chillicothe, OH 45601, telephone (740) 774-1126, email chris_alford@nps.gov.

SUPPLEMENTARY INFORMATION: This notice is published as part of the National Park Service's administrative responsibilities under NAGPRA. The determinations in this notice are the sole responsibility of the Superintendent, Hopewell Culture National Historical Park. Additional information on the determinations in this notice, including the results of consultation, can be found in the inventory or related records held by Hopewell Culture National Historical Park.

Description

Human remains representing one individual were removed from the Higby Site, Ross County, OH, in or around 1962 by an unknown person. The human remains were gifted to Mound City Group National Monument (now Hopewell Culture National Historical Park) by L. D. Hurley in September 1962. The age of the human remains is unknown. No associated funerary objects are present.

Human remains representing, at minimum, one individual were removed from the North 40 Site (33RO338; also known as the Drill Field Site), Ross County, OH in 1964 by National Park Service archeologist Richard Faust and were accessioned into the museum collection at Mound City Group National Monument (now Hopewell Culture National Historical Park). The age of the human remains is unknown. No associated funerary objects are present.

Human remains representing, at minimum, one individual were removed from Maurice Eugene Morrison's farm in the vicinity of archeological sites 33RO0120 and 33RO121, Ross County, OH in 1965 by National Park Service archeologist Lee Hanson and were accessioned into the museum collection at Mound City Group National Monument (now Hopewell Culture National Historical Park). The age of the human remains is unknown. No associated funerary objects are present.

Human remains representing, at minimum, one individual were removed from the property of Robert Williamson, Ross County, OH in 1966 during excavations by National Park Service archeologist Lee Hanson and Rev. Arthur Hayes and were accessioned into the museum collection at Mound City Group National Monument (now Hopewell Culture National Historical Park). Based on the limited excavation records and the funerary objects, the human remains most probably date to the Early Woodland or Middle Woodland period. The 11 associated funerary objects are one ceramic sherd, one retouched flake, two soil samples, and seven charcoal fragments.

Human remains representing, at minimum, one individual were removed from or near the Baum Earthworks, Ross County, OH, in the 1970s during the excavation of a utility trench. The human remains were gifted to Hopewell Culture National Historical Park in 1995 by Bill Anderson Jr. The age of the human remains is unknown. No associated funerary objects are present.

Human remains representing, at minimum, five individuals were most probably removed from an unknown site in or near Ross County, OH at an unknown date. The human remains were located within the collections at Hopewell Culture National Historical Park in 1990 and 1996 with no known provenience. The age of the human remains is unknown. No associated funerary objects are present.

Human remains representing, at minimum, one individual were removed from the Overly Site (33RO110), Ross County, OH in 1995 by an Ohio State University archeological field school. The site is located on private land. The National Park Service acquired the human remains through a cooperative agreement with the university. An osteological analysis concluded the human remains were a 30-40 year old Native American male. A radiocarbon date obtained on wood charcoal from the pit suggests the individual likely lived in the Archaic period, ca. 2000-1650 BCE. The 21 associated funerary objects are three collections of red ocher, one piece of limestone, and 17 samples of charcoal.

Human remains representing, at minimum, two individuals were removed from the Overly Site (33RO110), Ross County, OH by National Park Service archeologist Bret J. Ruby in 1996. The site is located on private land. These human remains were collected from the surface of the site, having been disturbed by graveling operations. The National Park Service acquired these human remains through a donation from the landowner. The age of the human remains is unknown. No associated funerary objects are present.

Human remains representing, at minimum, one individual were removed from an unknown site on private property, Ross County, OH during a construction project in the 1970s. These human remains and the objects recovered alongside them were donated to Hopewell Culture National Historical Park in 1996 by a local resident, Jack Hatton. The age of the human remains is unknown. The 49 associated funerary objects are one quartz stone, one chert tool, one piece of chert debitage, and 46 pieces of fire-cracked rock.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, historical information, linguistics, oral tradition.

Determinations

Pursuant to NAGPRA and its implementing regulations, and after consultation with the appropriate Indian Tribes and Native Hawaiian organizations, Hopewell Culture National Historical Park has determined that:

• The human remains described in this notice represent the physical remains of 14 individuals of Native American ancestry.

• The 81 objects described in this notice are reasonably believed to have been placed with or near individual human remains at the time of death or later as part of the death rite or ceremony.

• There is a relationship of shared group identity that can be reasonably traced between the human remains and associated funerary objects described in this notice and the Absentee-Shawnee Tribe of Indians of Oklahoma; Eastern Shawnee Tribe of Oklahoma; Match-e-be-nash-she-wish Band of Pottawatomi Indians of Michigan; Miami Tribe of Oklahoma; Nottawaseppi Huron Band of the Potawatomi, Michigan; Shawnee Tribe; and The Osage Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 2, 2024. If competing requests for repatriation are received, Hopewell Culture National Historical Park must determine the most appropriate requestor prior to repatriation. Requests for joint repatriation of the human remains and associated funerary objects are considered a single request and not competing requests. Hopewell Culture National Historical Park is responsible for sending a copy of this notice to the Indian Tribes and Native Hawaiian organizations identified in this notice.

Authority: Native American Graves Protection and Repatriation Act, 25 U.S.C. 3003, and the implementing regulations, 43 CFR 10.9, 10.10, and 10.14.

Dated: December 20, 2023.
Melanie O'Brien,
Manager, National NAGPRA Program.

[FR Doc. 2023-28912 Filed 1-2-24; 8:45 am]

BILLING CODE 4312-52-P